NUCLEAR REGULATORY COMMISSION

Notice of Opportunity To Comment on Model Application on Technical Specification Improvement To Modify Requirements Regarding LCO 3.10.1, Inservice Leak and Hydrostatic Testing Operation Using the Consolidated Line Item Improvement Process

AGENCY: Nuclear Regulatory Commission.

ACTION: Request for comment.

SUMMARY: Notice is hereby given that the staff of the Nuclear Regulatory Commission (NRC) has prepared a model licensee application relating to the modification of shutdown testing requirements in technical specifications (TS) for Boiling Water Reactors (BWR). The purpose of this model is to permit the NRC to efficiently process amendments that propose to modify LCO 3.10.1 that would allow control rod scram time testing to be performed concurrently with inservice leak and hydrostatic testing. Licensees of nuclear power reactors to which the model applies could then request amendments, confirming the applicability to their reactors. The NRC staff is requesting comment on the model application prior to announcing its availability for license amendment applications. A model safety evaluation and no significant hazards determination regarding the proposed changes to LCO 3.10.1 have been previously posted in the Federal Register for comment on August 21, 2006 (71 FR 48561).

DATES: The comment period expires October 25, 2006. Comments received after this date will be considered if it is practical to do so, but the Commission is able to ensure consideration only for comments received on or before this date.

ADDRESSES: Comments may be submitted either electronically or via U.S. mail. Submit written comments to Chief, Rulemaking, Directives, and Editing Branch, Division of Administrative Services, Office of Administration, Mail Stop: T-6 D59, U.S. Nuclear Regulatory Commission, Washington, DC 20555-0001. Hand deliver comments to: 11545 Rockville Pike, Rockville, Maryland, between 7:45 a.m. and 4:15 p.m. on Federal workdays. Copies of comments received may be examined at the NRC's Public Document Room, 11555 Rockville Pike (Room O-1F21), Rockville, Maryland. Comments may be submitted by electronic mail to NRCREP@nrc.gov.

FOR FURTHER INFORMATION CONTACT: Tim Kobetz, Mail Stop: O-12H2, Division of Inspections and Regional Support, Office of Nuclear Reactor Regulation, U.S. Nuclear Regulatory Commission, Washington, DC 20555-0001, telephone 301-415-1932.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency of NRC licensing processes by processing proposed changes to the standard technical specifications (STS) in a manner that supports subsequent license amendment applications. The CLIIP includes an opportunity for the public to comment on a proposed change to the STS after a preliminary assessment by the NRC staff and a finding that the change will likely be offered for adoption by licensees. A model safety evaluation and no significant hazards determination regarding the proposed changes to LCO 3.10.1 have been previously posted in the Federal Register for comment on August 21, 2006 (71 FR 48561). This notice solicits comment on a proposed model licensee application that would modify LCO 3.10.1 to allow control rod scram time testing to be performed concurrently with inservice leak and hydrostatic testing.

Applicability

Licensees opting to apply for this TS change are responsible for reviewing the staff's evaluation, referencing the applicable technical justifications, and providing any necessary plant-specific information. Each amendment application made in response to the notice of availability will be processed and noticed in accordance with applicable rules and NRC procedures.

Public Notices

This notice requests comments from interested members of the public within 30 days of the date of publication in the Federal Register. After evaluating the comments received as a result of this notice, the staff will either reconsider the proposed change or announce the availability of the change in a subsequent notice (perhaps with some changes to the safety evaluation or the proposed no significant hazards consideration determination as a result of public comments). If the staff announces the availability of the change, licensees wishing to adopt the change must submit an application in accordance with applicable rules and other regulatory requirements. For each application the staff will publish a notice of consideration of issuance of amendment to facility operating licenses, a proposed no significant hazards consideration determination, and a notice of opportunity for a hearing. The staff will also publish a notice of issuance of an amendment to an operating license to announce the modification of TS 3.10.1, Inservice Leak and Hydrostatic Testing, for each plant that receives the requested change.

Proposed Model Application for License Amendments Adopting TSTF-484, Rev. 0, “Use of TT 3.10.1 for Scram Time Testing Activities”

U.S. Nuclear Regulatory Commission, Document Control Desk, Washington, DC 20555.

Subject: [Plant Name]

Docket No. 50—License Amendment Request for Adoption of TSTF-484, Rev. 0, “Use of TS 3.10.1 for Scram Time Testing Activities”

In accordance with the provisions of Section 50.90 of Title 10 of the Code of Federal Regulations (10 CFR), [Licensee] is submitting a request for an amendment to the technical specifications (TS) for [Plant Name, Unit No.].

The proposed amendment would revise LCO 3.10.1, and the associated Bases, to expand its scope to include provisions for temperature excursions greater than [200]°F as a consequence of inservice leak and hydrostatic testing, and as a consequence of scram time testing initiated in conjunction with an inservice leak or hydrostatic test, while considering operational conditions to be in Mode 4. This change is consistent with NRC approved Revision 0 to Technical Specification Task Force (TSTF) Improved Standard Technical Specification Change Traveler, TSTF-484, “Use of TS 3.10.1 for Scram Time Testing Activities”. The availability of this TS improvement was announced in the Federal Register on [Date] ([ ] FR [ ]) as part of the consolidated line item improvement process (CLIIP).

Attachment 1 provides an evaluation of the proposed change. Attachment 2 provides the existing TS pages marked up to show the proposed change. Attachment 3 provides the proposed TS changes in final typed format. Attachment 4 provides the existing Bases pages marked up to show the proposed change.

[Licensee] requests approval of the proposed license amendment by [Date], with the amendment being implemented [By Date or within X Days].

In accordance with 10 CFR 50.91, a copy of this application, with attachments, is being provided to the designated [State] Official.

If you should have any questions regarding this submittal, please contact [ ].

I declare under penalty of perjury under the laws of the United States of America that I am authorized by [Licensee] to make this request and that the foregoing is true and correct.

Executed on [Date].

[Name, Title]

Attachments: 1. Evaluation of Proposed Change

2. Proposed Technical Specification Change (Mark-Up)

3. Proposed Technical Specification Change (Re-Typed)

4. Proposed Technical Specification Bases Change (Mark-Up)

cc: [NRR Project Manager]

[Regional Office]

[Resident Inspector]

[State Contact]

Attachment 1—Evaluation of Proposed Change

License Amendment Request for Adoption of TSTF-484, Rev. 0, “Use of TS 3.10.1 for SCRAM Time Testing Activities”

1.0 Description

2.0 Proposed Change

3.0 Background

4.0 Technical Analysis

5.0 Regulatory Safety Analysis

5.1 No Significant Hazards Determination

5.2 Applicable Regulatory Requirements/Criteria

6.0 Environmental Consideration

7.0 References

1.0 Description

The proposed amendment would revise LCO 3.10.1, and the associated Bases, to expand its scope to include provisions for temperature excursions greater than [200]°F as a consequence of inservice leak and hydrostatic testing, and as a consequence of scram time testing initiated in conjunction with an inservice leak or hydrostatic test, while considering operational conditions to be in Mode 4. This change is consistent with NRC approved Revision 0 to Technical Specification Task Force (TSTF) Improved Standard Technical Specification Change Traveler, TSTF-484, “Use of TS 3.10.1 for Scram Time Testing Activities.” The availability of this TS improvement was announced in the Federal Register on [Date] ([ ] FR [ ]) as part of the consolidated line item improvement process (CLIIP).

2.0 Proposed Change

Consistent with the NRC approved Revision 0 of TSTF-484, the proposed TS changes include a revised TS 3.10.1, “Inservice Leak and Hydrostatic Testing Operation.” Proposed revisions to the TS Bases are also included in this application. Adoption of the TS Bases associated with TSTF-484, Revision 0 is an integral part of implementing this TS amendment. The changes to the affected TS Bases pages will be incorporated in accordance with the TS Bases Control Program.

This application is being made in accordance with the CLIIP. [Licensee] is not proposing variations or deviations from the TS changes described in TSTF-484, Revision 0, or the NRC staff's model safety evaluation (SE) published on [Date] ([ ] FR [ ]) as part of the CLIIP Notice of Availability.

3.0 Background

The background for this application is adequately addressed by the NRC Notice of Availability published on [Date] ([ ] FR [ ]).

4.0 Technical Analysis

[Licensee] has reviewed the safety evaluation (SE) published on [Date] ([ ] FR [ ]) as part of the CLIIP Notice of Availability. [Licensee] has concluded that the technical justifications presented in the SE prepared by the NRC staff are applicable to [Plant, UNIT No.] and therefore justify this amendment for the incorporation of the proposed changes to the [Plant] TS.

5.0 Regulatory Safety Analysis

5.1 No Significant Hazards Determination

[Licensee] has reviewed the no significant hazards determination published on [Date] ([ ] FR [ ]) as part of the CLIIP Notice of Availability. [Licensee] has concluded that the determination presented in the notice is applicable to [Plant, Unit No.] and the determination is hereby incorporated by reference to satisfy the requirements of 10 CFR 50.91(a).

5.2 Applicable Regulatory Requirements/Criteria

A description of the proposed TS change and its relationship to applicable regulatory requirements was provided in the NRC Notice of Availability published on [Date] ([ [ FR [ ]).

6.0 Environmental Consideration

[Licensee] has reviewed the environmental evaluation included in the safety evaluation (SE) published on [Date] ([ ] FR [ ]) as part of the CLIIP Notice of Availability. [Licensee] has concluded that the staff's findings presented in that evaluation are applicable to [Plant, No.] and the evaluation is hereby incorporated by reference for this application.

7.0 References

1. Federal Register Notice, Notice of Availability published on [Date] ([ ] FR [ ]).

2. Federal Register Notice, Notice for Comment published on August 21, 2006 (71 FR 48561)

3. TSTF-484 Revision 0, “Use of TS 3.10.1 for Scram Times Testing Activities”

Attachment 2—Proposed Technical Specification Change (Mark-Up)

Attachment 3—Proposed Technical Specification Change (Re-Typed)

Attachment 4—Proposed Technical Specification Bases Change (Mark-Up)

Principal Contributor: Aron Lewin.

Dated at Rockville, Maryland, this 30th of August 2006.
For the Nuclear Regulatory Commission.
Timothy Kobetz,
Chief, Technical Specifications Branch, Division of Inspections and Regional Support, Office of Nuclear Reactor Regulation.

[FR Doc. 06-8152 Filed 9-22-06; 8:45 am]

BILLING CODE 7590-01-P